INTERNATIONAL TRADE COMMISSION

[Investigations Nos. 731-TA-278-280 (Review) and 731-TA-347-348 (Reveiw)]

Malleable Cast Iron Pipe Fittings From Brazil, Japan, Korea, Taiwan, and Thailand ¹

¹ The investigation numbers are as follows: Brazil is 731-TA-278 (Review), Japan is 731-TA-347 (Review), Korea is 731-TA-279 (Review), Taiwan is 731-TA-280 (Review), and Thailand is 731-TA-348 (Review).

Determinations

On the basis of the record ² developed in the subject five-year reviews, the United States International Trade Commission determines, pursuant to section 751(c) of the Tariff Act of 1930 (19 U.S.C. 1675(c)) (the Act), that revocation of the antidumping duty orders on malleable cast iron pipe fittings from Brazil, Taiwan, and Thailand would not be likely to lead to continuation or recurrence of material injury to an industry in the United States within a reasonably foreseeable time. ³ The Commission further determines that revocation of the antidumping duty orders on malleable cast iron pipe fittings from Japan and Korea would be likely to lead to continuation or recurrence of material injury to an industry in the United States within a reasonably foreseeable time. ⁴

² The record is defined in sec. 207.2(f) of the Commission's Rules of Practice and Procedure (19 CFR 207.2(f)).

³ Chairman Lynn M. Bragg dissenting with respect to Brazil and Taiwan, Commissioner Stephen Koplan dissenting with respect to Taiwan, and Commissioner Deanna Tanner Okun not participating.

⁴ Commissioner Thelma J. Askey dissenting and Commissioner Deanna Tanner Okun not participating.

Background

The Commission instituted these reviews on January 4, 1999 (64 FR 369) and determined on April 8, 1999, that it would conduct full reviews (64 FR 19196, April 19, 1999). Notice of the scheduling of the Commission's reviews and of a public hearing to be held in connection therewith was given by posting copies of the notice in the Office of the Secretary, U.S. International Trade Commission, Washington, DC, and by publishing the notice in the Federal Register on June 16, 1999 (64 FR 32255). The hearing was held in Washington, DC, on December 2, 1999, and all persons who requested the opportunity were permitted to appear in person or by counsel.

The Commission transmitted its determinations in these investigations to the Secretary of Commerce on February 8, 2000. The views of the Commission are contained in USITC Publication 3274 (February 2000), entitled Malleable Cast Iron Pipe Fittings from Brazil, Japan, Korea, Taiwan, and Thailand: Investigations Nos. 731-TA-278-280 (Review) and 731-TA-347-348 (Review).

Issued: February 8, 2000.
By order of the Commission.
Donna R. Koehnke,
Secretary.

[FR Doc. 00-3711 Filed 2-15-00; 8:45 am]

BILLING CODE 7020-02-P